Proclamation 8500 of April 16, 2010

National Volunteer Week, 2010

By the President of the United States of America

A Proclamation

Since the founding of our Nation, we have met our greatest challenges through the dedication of countless Americans who have given generously of themselves, asking for nothing in return. The American story is a story of volunteers—of patriots who fought for our founding ideals, of people who marched for justice, of firefighters who rushed into burning towers, and of ordinary citizens who lifted up struggling communities. All were volunteers, and their work changed our country. This week, we recognize their enduring contributions and encourage more Americans, especially our youth, to join their ranks.

Today’s vast challenges require a renewed commitment to service, and Americans are answering that call. From mentoring a student and feeding the homeless, to rebuilding after a natural disaster, volunteers are touching lives every day. Social entrepreneurs are pioneering innovative approaches to community service, and technology is providing us with new ways to connect with one another. Public-private partnerships are also expanding the scope and effectiveness of volunteerism.

My Administration is committed to ushering in a new era of service and responsibility. We launched United We Serve, a nationwide initiative to encourage all Americans to make service a part of their daily lives. The Edward M. Kennedy Serve America Act, which I signed last year, has expanded and updated programs at the Corporation for National and Community Service, harnessing the energy of millions to meet our most pressing national challenges. We are also investing in social innovation and volunteer management to give community groups the capacity to tackle local concerns.

During National Volunteer Week, we honor the ordinary people who give of themselves to accomplish extraordinary things, and we encourage more Americans to strengthen our country by volunteering. Visit Serve.gov to find volunteer opportunities across America and resources to start your own project. This website highlights volunteer opportunities for Americans of all ages, and I especially hope our young people will be inspired to chart a course of service.

Whether through the workplace or a house of worship, in our own neighborhoods or in another state or country, service binds us together as Americans in a way nothing else can. It defines us as a people, and it is essential to achieving our national priorities. Together, let us answer the call, take hold of our shared future, and meet the challenges of our new century.

NOW, THEREFORE, I, BARACK OBAMA, President of the United States of America, by virtue of the authority vested in me by the Constitution and the laws of the United States, do hereby proclaim April 18 through April 24, 2010, as National Volunteer Week. I call upon all Americans to observe this week by volunteering in service projects across our country and pledging to make service a part of their daily lives.

IN WITNESS WHEREOF, I have hereunto set my hand this sixteenth day of April, in the year of our Lord two thousand ten, and of the Independence of the United States of America the two hundred and thirty-fourth.

[FR Doc. 2010-9415

Filed 4-20-10; 11:15 am]

Billing code 3195-W0-P